DEPARTMENT OF THE INTERIOR

National Park Service

Notice of Contract Award and Negotiations

AGENCY: National Park Service, Interior.

ACTION: Public notice.

SUMMARY: Public notice is hereby given that the National Park Service proposes to award a temporary concession contract authorizing the operation of mobile food services for the public within the Jamaica Bay Unit, Gateway National Recreation Area, New York for a term not to exceed two years.

DATES: Thirty (30) days after date of publication in the Federal Register.

ADDRESSES: Concession Program Manager, National Park Service, Northeast Region, Concession Management Program, 15 State Street, Boston, MA 02109-3572.

SUPPLEMENTARY INFORMATION: This temporary concession contract is being awarded to the Dover Gourmet Corporation, Plainview, New York. It is necessary to award the contract in order to avoid interruption of visitor services.

The action is issued pursuant to 36 CFR 51.24(a). This is not a request for proposals and no prospectus is being issued at this time. Gateway National Recreation Area is in the process of reviewing its visitor services plans for this location to develop a long-term strategy. This temporary contract will allow the continuation of services to the public during the planning process. You may be placed on a mailing list for receiving information regarding any future competitive solicitation by sending a written request to the above address.

Dated: July 18, 2002.
Chrysandra L. Walter,
Acting Regional Director, Northeast Region.

[FR Doc. 02-24041 Filed 9-20-02; 8:45 am]

BILLING CODE 4310-70-M